GENERAL SERVICES ADMINISTRATION

[Notice-WWICC-2016-03; Docket No. 2016-0006; Sequence 3]

World War One Centennial Commission; Notification of Upcoming Public Advisory Meeting

AGENCY: World War One Centennial Commission, GSA.

ACTION: Meeting Notice.

SUMMARY: Notice of this meeting is being provided according to the requirements of the Federal Advisory Committee Act, 5 U.S.C. App. 10(a)(2). This notice provides the schedule and agenda for the May 4, 2016 meeting of the World War One Centennial Commission (the Commission). The meeting is open to the public.

DATES: Effective: April 15, 2016.

Meeting Date and Location: The meeting will be held on Wednesday, May 4, 2016 starting at 9:00 a.m., Central Daylight Time (CDT), and ending no later than 11:30 a.m., CDT. The meeting will be held at the National World War I Museum and Memorial, 100 W 26th Street, Kansas City, MO 64108. This location is handicapped accessible. The meeting will be open to the public and will also be available telephonically. Persons attending in person are requested to refrain from using perfume, cologne, and other fragrances (see http://www.accessboard.gov/about/policies/fragrance.htm for more information).

Persons wishing to listen to the proceedings may dial 712-432-1001 and enter access code 474845614. Note this is not a toll-free number. Written Comments may be submitted to the Commission and will be made part of the permanent record of the Commission. Comments must be received by 5:00 p.m., Eastern Daylight Time (EDT), April 29, 2016, and may be provided by email to: daniel.dayton@worldwar1centennial.gov. Contact Daniel S. Dayton at daniel.dayton@worldwar1centennial.org to register to comment during the meeting's 30-minute public comment period.

Registered speakers/organizations will be allowed 5 minutes and will need to provide written copies of their presentations. Requests to comment, together with presentations for the meeting, must be received by 5:00 p.m., EDT, on Friday, April 29, 2016. Please contact Mr. Dayton at the email address above to obtain meeting materials.

FOR FURTHER INFORMATION CONTACT: Daniel S. Dayton, Designated Federal Officer, World War 1 Centennial Commission, 701 Pennsylvania Avenue NW., 123, Washington, DC 20004-2608 at 202-380-0725 (note: this is not a toll-free number).

SUPPLEMENTARY INFORMATION:

Background

The World War One Centennial Commission was established by Public Law 112-272 (as amended), as a commission to ensure a suitable observance of the centennial of World War I, to provide for the designation of memorials to the service of members of the United States Armed Forces in World War I, and for other purposes.

Under this authority, the Committee will plan, develop, and execute programs, projects, and activities to commemorate the centennial of World War I, encourage private organizations and State and local governments to organize and participate in activities commemorating the centennial of World War I, facilitate and coordinate activities throughout the United States relating to the centennial of World War I, serve as a clearinghouse for the collection and dissemination of information about events and plans for the centennial of World War I, and develop recommendations for Congress and the President for commemorating the centennial of World War I. The Commission does not have an appropriation and operated solely on donated funds.

Agenda: Wednesday May 4, 2016

Old Business

Approval of minutes of previous meetings.

• Public Comment Period.

New Business

• Commission Operating Status—Exec. Director Dayton.

• Fund Raising—Roger Fisk.

• Program Operations—Rebekah Wilson.

• Communications—Chris Isleib.

• World War 1 Memorial at Pershing Park Status Report—Commissioner Fountain.

• Education Report—Commissioner O'Connell.

• Requests for Support and International Report—Commissioner Seefried.

• Chairman's Report—Chairman Rob Dalessandro.

• Set next meeting—August 17, 2016 in Washington, DC.

Other business as may properly come before the Commission Adjourns.

Dated: April 11, 2016.
Daniel S. Dayton,
Designated Federal Official, World War I Centennial Commission.

[FR Doc. 2016-08772 Filed 4-14-16; 8:45 am]

BILLING CODE 6820-95-P